Title 3—

The President

Executive Order 14359 of November 13, 2025

Fostering the Future for American Children and Families

By the authority vested in me as President by the Constitution and the laws of the United States of America, it is hereby ordered:

Section 1. Purpose and Policy. My Administration is dedicated to empowering mothers and fathers to raise their children in safe and loving homes. When crises prevent such an arrangement, our Nation's foster care system must be ready to serve children in need. Today's foster care system must be improved in a number of important ways.

Children often stay in foster care for years, and those who transition out due to age frequently face uncertain futures without the support systems essential to educational, career, and relational success. Many caseworkers are overburdened. Information systems are often outdated. Some jurisdictions and organizations maintain policies that discourage or prohibit qualified families from serving children in need as foster and adoptive parents because of their sincerely-held religious beliefs or adherence to basic biological truths.

Our Nation's children and youth—and the families who care for them—deserve better. To that end, my Administration, with special leadership from the First Lady, will harness Federal support, technology, and strategic partnerships to provide young Americans in or transitioning out of the foster care system with the tools they need to become successful adults.

Sec. 2. Modernizing the Child Welfare System. (a) The Secretary of Health and Human Services shall, within 180 days of the date of this order, take appropriate action to:

(i) update applicable regulations, policies, and practices to improve the collection, publication, utility, and transparency of State-level child-welfare data, including by improving collection of data and information indicative of child well-being and safety, eliminating duplicative or unnecessary high-cost and low-value reporting requirements, and expanding and expediting child-welfare data publication;

(ii) promote modernization of State child-welfare information systems and use of the most effective foster care management and outcome-tracking platforms, including by incorporating such modernization efforts as part of information exchanged with or technical assistance provided to States;

(iii) expand States' use of technological solutions, including predictive analytics and tools powered by artificial intelligence, to increase caregiver recruitment and retention rates, improve caregiver and child matching, and deploy Federal child-welfare funding to maximally effective purposes and recipients; and

(iv) publish annually a scorecard that measures and is used to evaluate State-level achievement of key outcomes and metrics that reduce unnecessary entries into foster care, decrease the time between reports of child maltreatment and investigations, reduce child injuries and fatalities caused by caregiver neglect and abuse, increase caregiver recruitment and retention, improve caregiver and child matching, reduce placement disruptions, decrease the average time that children spend in foster care, accelerate permanent placement for children, and increase partnerships and collaboration with appropriate non-governmental entities, including faith-based organizations.

Sec. 3. Fostering the Future. The Secretary of Health and Human Services, in coordination with the Office of the First Lady and heads of other relevant executive departments and agencies (agencies) shall, within 180 days of the date of this order:

(a) establish a “Fostering the Future” initiative to develop partnerships with agencies and leading private sector organizations, academic institutions, and non-profit entities to create new educational and employment opportunities for individuals who are in or are transitioning out of the foster care system;

(b) develop a plan to launch, in conjunction with the National Design Studio, a “Fostering the Future” online platform to help individuals who have been in foster care by assessing their current needs, providing guidance regarding accessing Federal, State, and local programs and services for which they are eligible, including housing, education, employment, healthcare, and mentoring services offering a searchable database of those and other available resources, and generating customized plans that support their self-sufficiency and success;

(c) develop a strategy to reallocate funds returned by States from Federal programs designed to assist individuals transitioning out of foster care so that such returned funds are used to promote educational success, occupational advancement, and financial literacy and self-sufficiency for individuals transitioning out of foster care;

(d) increase flexibility in Education and Training Vouchers to expand access for individuals transitioning out of foster care to short-term, career-focused, and credential-awarding programs; and

(e) facilitate, in coordination with the Secretary of the Treasury and the Secretary of Education, State use of educational scholarships created through tax-credited donations to scholarship-granting organizations for children in foster care.

Sec. 4. Maximizing Partnerships with Americans of Faith. The Secretary of Health and Human Services, in coordination with the Director of the White House Faith Office and the Director of the White House Office of Intergovernmental Affairs, shall:

(a) take appropriate action to address State and local policies and practices that inappropriately prohibit participation in federally-funded child-welfare programs by qualified individuals or organizations based upon their sincerely-held religious beliefs or moral convictions; and

(b) take appropriate action to increase partnerships between agencies and faith-based organizations and houses of worship to serve families whose children have been placed in foster care or are at risk of being placed in foster care.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of Health and Human Services.

THE WHITE HOUSE,

November 13, 2025.

[FR Doc. 2025-20406

Filed 11-18-25; 11:15 am]

Billing code 4150-28-P